DEPARTMENT OF ENERGY

Federal Energy Regulatory Commission

Combined Notice of Filings #1

Take notice that the Commission received the following exempt wholesale generator filings:

Docket Numbers: EG12-5-000.

Applicants: AES New Creek, LLC.

Description: AES New Creek, LLC Notice of Self-Certification as Exempt Wholesale Generator.

Filed Date: 10/26/2011.

Accession Number: 20111026-5149.

Comment Date: 5 p.m. Eastern Time on Wednesday, November 16, 2011.

Take notice that the Commission received the following electric rate filings:

Docket Numbers: ER11-3859-003; ER11-3863-002; ER11-3861-002; ER11-3864-003; ER11-3866-003; ER12-192-001; ER11-3867-003; ER11-3857-003.

Applicants: Milford Power Company, LLC, MASSPOWER, Liberty Electric Power, LLC, Empire Generating Co, LLC, ECP Energy I, LLC, EquiPower Resources Management, LLC, Dighton Power, LLC, Lake Road Generating Company, L.P.

Description: ECP MBR Sellers Notification of Change in Status.

Filed Date: 10/26/2011.

Accession Number: 20111026-5097.

Comment Date: 5 p.m. Eastern Time on Wednesday, November 16, 2011.

Docket Numbers: ER12-197-000.

Applicants: PJM Interconnection, LLC.

Description: PJM Interconnection, LLC submits tariff filing per 35.13(a)(2)(iii: Original Service Agreement No. 3085—Queue No. W3-156 to be effective 9/26/2011.

Filed Date: 10/26/2011.

Accession Number: 20111026-5100.

Comment Date: 5 p.m. Eastern Time on Wednesday, November 16, 2011.

Docket Numbers: ER12-198-000.

Applicants: Roseburg Forest Products.

Description: Roseburg Forest Products submits tariff filing per 35.1: FERC Electric MBR Tariff Baseline Filing to be effective 10/26/2011.

Filed Date: 10/26/2011.

Accession Number: 20111026-5102.

Comment Date: 5 p.m. Eastern Time on Wednesday, November 16, 2011.

Docket Numbers: ER12-199-000.

Applicants: Coram California Development, L.P.

Description: Coram California Development, L.P. submits tariff filing per 35.12: Coram California Development LP's Initial Market-Based Rate Tariff to be effective 2/1/2012.

Filed Date: 10/26/2011.

Accession Number: 20111026-5114.

Comment Date: 5 p.m. Eastern Time on Wednesday, November 16, 2011.

Docket Numbers: ER12-200-000.

Applicants: PJM Interconnection, LLC.

Description: PJM Interconnection, LLC submits tariff filing per 35.13(a)(2)(iii: Original Service Agreement No. 3089—Queue No. W3-029 to be effective 9/29/2011.

Filed Date: 10/26/2011.

Accession Number: 20111026-5127.

Comment Date: 5 p.m. Eastern Time on Wednesday, November 16, 2011.

Docket Numbers: ER12-201-000.

Applicants: Southern California Edison Company.

Description: Southern California Edison Company submits tariff filing per 35.13(a)(1): 2012 RSBAA Update Filing to be effective 1/1/2012.

Filed Date: 10/26/2011.

Accession Number: 20111026-5135.

Comment Date: 5 p.m. Eastern Time on Wednesday, November 16, 2011.

Docket Numbers: ER12-202-000.

Applicants: Southwestern Electric Power Company.

Description: Southwestern Electric Power Company submits tariff filing per 35.13(a)(2)(iii: 20111026 Prescott Revised PSA to be effective 12/17/2010.

Filed Date: 10/26/2011.

Accession Number: 20111026-5151.

Comment Date: 5 p.m. Eastern Time on Wednesday, November 16, 2011.

Docket Numbers: ER12-203-000.

Applicants: Southwestern Electric Power Company.

Description: Southwestern Electric Power Company submits tariff filing per 35.13(a)(2)(iii: 20111026 Minden Revised PSA to be effective 12/17/2010.

Filed Date: 10/26/2011.

Accession Number: 20111026-5153.

Comment Date: 5 p.m. Eastern Time on Wednesday, November 16, 2011.

Docket Numbers: ER12-204-000.

Applicants: Trupro Energy LLC.

Description: Trupro Energy LLC submits tariff filing per 35.12: Market-Based Rate Application to be effective 10/26/2011.

Filed Date: 10/26/2011.

Accession Number: 20111026-5154.

Comment Date: 5 p.m. Eastern Time on Wednesday, November 16, 2011.

Docket Numbers: ER12-205-000.

Applicants: California Independent System Operator Corporation.

Description: California Independent System Operator Corporation submits tariff filing per 35: 2011-10-26 CAISO Petition for Waiver of Tariff Provision to be effective N/A.

Filed Date: 10/26/2011.

Accession Number: 20111026-5166.

Comment Date: 5 p.m. Eastern Time on Wednesday, November 16, 2011.

Take notice that the Commission received the following qualifying facility filings:

Docket Numbers: QF12-16-000.

Applicants: Martin Operating Partnership L.P.

Description: Martin Operating Partnership L.P. submits FERC Form 556 Notice of Certification of Qualifying Facility Status for a Small Power Production or Cogeneration Facility.

Filed Date: 10/26/2011.

Accession Number: 20111026-5015.

Comment Date: None Applicable.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 27, 2011.
Nathaniel J. Davis, Sr.,
Deputy Secretary.

[FR Doc. 2011-28869 Filed 11-7-11; 8:45 am]

BILLING CODE 6717-01-P